DEPARTMENT OF LABOR

Mine Safety and Health Administration

Petitions for Modification

AGENCY: Mine Safety and Health Administration (MSHA), Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations and Variances on or before April 16, 2010.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209, Attention: Patricia W. Silvey, Director, Office of Standards, Regulations and Variances.

4. Hand-Delivery or Courier: MSHA, Office of Standards, Regulations and Variances, 1100 Wilson Boulevard, Room 2350, Arlington, Virginia 22209-3939, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2010-001-C.

Petitioner: Lone Mountain Processing, Inc., Drawer C, St. Charles, Virginia 24282.

Mine: Huff Creek No. 1 Mine, MSHA I. D. No. 15-17234, located in Harlan County, Kentucky.

Regulation Affected: 30 CFR 75.364(b)(1) (Weekly examination).

Modification Request: The petitioner requests a modification of the existing standard to permit an alternative method for weekly examinations on the out by A-Mains panel due to bad roof, rib sloughage, and floor heave. The petitioner proposes to: (1) Establish two evaluation points for weekly evaluation of the affected area. The evaluation points will be located at break 71 and break 40 on the A-Mains panel to monitor air quality and quantity entering and exiting the hazardous area; (2) Place an atmospheric monitoring system (AMS) sensor at each evaluation point to continuously monitor the quality of air in the effective area as follows: (a) An AMS meeting all of the applicable requirements of 30 CFR 75.351(a), (b), (c), (d), (k), and (l) will be used to continuously monitor methane, oxygen and carbon monoxide concentrations at the specified monitoring stations. The AMS will be calibrated and maintained in accordance with 30 CFR 75.351(n), (o), (p), and (q); (b) the AMS sensor will be located such that the air flowing over the sensor is representative of the air flowing through the inaccessible belt air entry; (c) the AMS sensors will be capable of providing both visual and audible signals as follows: (i) A visual and audible alert signal will be activated for the following initial levels: (1) Oxygen: 19.4%; (2) Methane: 1.5%; (3) Carbon Monoxide: 8 ppm; (ii) an audible and visual alarm signal will be activated for the following initial levels; (1) Oxygen: 19.0%: (2) Methane: 2.0%; and (3) Carbon Monoxide: 13 ppm; (d) if an AMS sensor indicates an alert signal, a qualified person will immediately be dispatched to the affected area to determine the reason for the alarm and what action must be taken to correct the condition. If it is determined that a fire exists, all persons not required for firefighting activities will be evacuated from the mine; (e) if an AMS sensor indicates an alarm signal, all persons in by that sensor in the same split of air will be withdrawn out by to the next sensor not in an alarm mode. All persons will remain at that location, or be withdrawn from the mine, until the reason for the alarm has been determined and action has been taken to correct the condition. If it is determined that a fire exists, all persons not required for firefighting activities will be evacuated from the mine; (3) A certified person will: (a) Examine each of the evaluation points at least every 7 days, including: (i) Examine for hazards on the approaches to and at the evaluation points; (ii) perform visual examinations of the AMS sensors; and (iii) evaluate and measure the quality and quantity of air flowing past the evaluation points. Air quality measurements will determine the methane, oxygen, and carbon monoxide concentrations using a MSHA approved hand-held device. Air quantity measurements will be made using an appropriately calibrated anemometer. Methane gas or other harmful, noxious, or poisonous gases will not be permitted to accumulate in excess of legal limits for an intake aircourse. At these evaluations points, an increase of 0.3 percent methane above the previous reading or a 10 percent change in the airflow quantity from the previous reading will cause an immediate investigation of the affected area, with prompt remedial action being taken as needed; and (iv) at each evaluation point, a date board will be provided where the certified examiner will record the date, time, his or her initials, and the measured quantity and quality of the air entering the affected area; and (v) record the results of each weekly examination in a book maintained on the surface. The certification, recordkeeping, and retention period requirements of 30 CFR 75.364(g), (h), and (i) will be met, (4) The permanent ventilation controls, evaluation points, and AMS sensor locations will be shown on the annual mine ventilation map submitted in accordance with 30 CFR 75.372; (5) All evaluation points and approaches to evaluation points will be maintained in a safe condition at all times. The roof will be adequately supported by suitable means to prevent deterioration of the roof in the vicinity of the evaluation points. The petitioner asserts that the proposed alternative method will at all times guarantee no less than the same measure of protection afforded by the appropriate portion of 30 CFR 75.364.

Docket Number: M-2010-002-C.

Petitioner: Bridger Coal Company, P.O. Box 68, Point of Rocks, Wyoming 82942.

Mine: Bridger Underground Mine, MSHA I.D. No. 48-01646, located in Sweetwater County, Wyoming.

Regulation Affected: 30 CFR 75.1700 (Oil and gas wells).

Modification Request: The petitioner requests a modification of the existing standard to allow mining through abandoned oil and gas wells. The petitioner states that: (1) Bridger Coal Company expects to plug and mine through wells intersecting three coal seams: (a) Deadman D41 (the lowermost mineable seam, currently being mined), Deadman D5 Seam (not being mined), and Deadman D6 Seam (not being mined); (b) Bridger Coal Company is currently mining the Deadman D41 Seam. This seam varies from 7 to 17-feet in thickness, and liberates little to no methane in seam; (c) the Deadman D5 seam is approximately 70-feet above the active mine workings. This seam is approximately 5-feet thick. Bridger Coal Company has no current plans to mine this seam; (d) the Deadman D6 Seam is approximately 170-feet above the active mine workings. This seam is approximately 2.5-feet thick. Bridger Coal Company has no current plans to mine this seam; (2) there are two abandoned gas wells, #41-35 (P & A July 28, 1964) and Pierce #1 (P & A December 23, 1960). The drilled depth of #41-35 is 2793 feet; that of Pierce #1 is 3276 feet. Both of these wells were already professionally plugged and abandoned. Copies of geologic logs have been secured for each well and have been interpreted to identify coal bed horizons; and (3) the interval of all three seams is approximately 210 feet so the total expansive cement interval would be 510 feet to meet the minimum proposed plugging requirements set forth below. Plugging to the surface is planned for each abandoned and plugged gas well. The two abandoned and plugged gas wells will be cut through by longwall shear. Mine development occurs near the three hundred (300) foot diameter barrier of #41-35 in December 2010. As an alternative method of achieving the results of 30 CFR 75.1700, the petitioner proposes the following: (1) Bridger Coal Company will provide the District Manager with a map showing the location of all known oil and gas wells within the lease boundaries of the mine; (2) At least 30 days prior to mining within 150 feet of any oil or gas well, written certification will be provided to the District Manager that such well was cleaned out, prepared, and plugged using methods that meet or exceed the following techniques and procedures: (a) A diligent effort will be made to clean the boreholes to a depth which would permit the placement of expanding cement to at least 200 feet below the base of the lowest mineable coal seam; (b) If the cleaned out borehole produces an excessive amount of methane gas, a mechanical bridge plug will be set in the borehole in a stratum of at least 200 feet below the base of the lowest mineable coal seam. If it is not feasible to set a mechanical bridge plug, an appropriately sized substantial brush plug may be used; and (c) A suite of logs will be made and maintained consisting of caliper survey, directional deviation survey, and log(s) suitable for determining the top and bottom of the mineable coal seams. Invoices, work orders, and other records relating to all work on the well will also be maintained. This information will be provided to MSHA upon request.

The following procedures will be followed when plugging oil and gas wells to the surface: (1) Using open-end tubing, a gel will be pumped into the borehole to a point approximately 20 feet above the bottom of the cleaned-out area of the borehole, or 20 feet above the mechanical bridge plug or substantial brush plug. The gel should circulate around the borehole, completely filling the cavity, so that the gel inhibits any flow of gas, supports the walls of the borehole, and densifies the expanding cement that will be pumped into the borehole; (2) using open-ended tubing, a cement plug will be set in the well by pumping expanding cement slurry to a point at least 200 feet below the lowest mineable coal seam up to a point approximately 100 feet above the top of the lowest mineable coal seam. There will be at least 200 feet of expanding cement below the base of the lowest mineable coal bed; (3) the remainder of the borehole will be filled to the surface, either with expanding cement slurry, or beginning from the point approximately 100 feet above the top of the lowest mineable coal seam, with Portland cement or a Portland cement-fly ash mixture; (4) a small quantity of steel turnings, or other magnetic particles will be imbedded in the top of the cement near the surface to serve as a permanent magnetic monument of the borehole. The following procedures will apply to mining through an oil or gas well: (1) The operator will notify the District Manager or designee prior to mining within 150 feet of the well, and when a specific plan is developed for mining through each well; (2) The petitioner will participate in a conference with the District Manager prior to mining-through the plugged well to review the specific procedures for mining through the well. Representatives of miners, miners on the section, and the appropriate State agency will be informed within a reasonable time prior to the conference, and all persons who will be present during the mining through will attend and participate. The conference may be called by the operator and may be conducted by teleconference; (3) Mining through a plugged well will be done on a shift approved by the District Manager or designee; (4) The District Manager or designee, representatives of the miners, the miners on the section, and the appropriate State agency will be notified by the operator in sufficient time prior to the mining through operation in order to have an opportunity to have representatives present; (5) When using continuous mining or conventional mining methods, drivage sights not more than 50 feet from the well, will be installed at the last open crosscut near the place to be mined to assure intersection of the well. When using longwall mining methods, drivage sights will be installed on 10-foot centers for a distance of 50 feet in advance of the well bore. The drivage sights will be installed in the headgate and tailgate; (6) Firefighting equipment, including fire extinguishers, rock dust, and sufficient fire hose to reach the working face will be available. The fire hose will be located near the working face. The fire hose will be extended to the face area of the mine-through when the longwall mining method is implemented. All fire hoses will be ready for operation during the mine-through; (7) Sufficient supplies of roof support and ventilation materials will be available and located not more than two crosscuts outby the mining-through location on intake air; (8) During the mine-through operation, the quantity of air required by the ventilation plan, but not less than 10,800 cfm, will reach each working face where coal is being cut, mined or loaded by continuous mining or conventional mining methods being employed during a mining through of a plugged well. The quantity of air required by the ventilation plan, but not less than 65,000 cfm, will reach the working face of the longwall during the mine-through operation; (9) Equipment will be checked for permissibility and serviced on the maintenance shift prior to mining through the well and the waterline maintained up to the tail piece with a sufficient amount of fire hose to reach the farthest point of penetration on the section; (10) The methane monitor(s) on the continuous mining machine, cutting machine and loading machine or longwall will be calibrated on the maintenance shift prior to mining through the well; (11) When mining is in progress, tests for methane will be made with a hand-held methane detector at least every 10 minutes from the time mining is within 30 feet of the well until the well is intersected and immediately prior to mining through. During the actual cutting through process, no individual will be allowed on the return side until mining through has been completed and the area has been examined and declared safe; (12) When using continuous or conventional mining methods, the working place will be free of accumulations of coal dust and coal spillages, and rock dusting will be conducted and placed on the roof, rib and floor to within 20 feet of the face when mining through the well. On longwall sections, rock dusting will be conducted and placed on the roof, rib and floor up to both the headgate and tailgate gob; (13) When the well bore is intersected, all equipment will be de-energized and the place thoroughly examined and determined safe before mining is resumed. Any well casing will be removed and no open flame will be permitted in the area until adequate ventilation has been established around the well bore; (14) After a well has been intersected and the working place determined safe, mining will continue inby the well a sufficient distance to permit adequate ventilation around the area of the well bore; (15) No person will be permitted in the area of the well mining-through operation except those actually engaged in the operation, company personnel, representatives of the miners, personnel from MSHA, and personnel from the appropriate State agency; (16) The mining-through operation will be under the direct supervision of a certified individual; (17) Instructions concerning the mining-through operation will be issued only by the certified individual in charge; and (18) MSHA personnel may interrupt or halt the mining-through operation when it is necessary for the safety of miners. The petitioner states that: (1) A copy of the Proposed Decision and Order will be maintained at the mine office and be available to the Secretary's representatives, miners' representatives, and miners; and (2) within 60 days after the Proposed Decision and Order becomes final, the petitioner will submit proposed revisions to the approved Part 48 training plans to the District Manager. These proposed revisions will include initial and refresher training regarding compliance with the terms and conditions stated in the Proposed Decision and Order. The petitioner asserts that the proposed alternative method of achieving the results of the standard proposed by Bridger Coal Company will at all times guarantee no less than the same measure of protection afforded the miner under the existing standard.

Docket Number: M-2010-003-C.

Petitioner: Brooks Run Mining Company, LLC, 208 Business Street, Beckley, West Virginia 25801.

Mine: Wyoming No. 2 Mine, MSHA I. D. No. 46-06263, located in Wyoming County, West Virginia.

Regulation Affected: 30 CFR 75.1101-1(b) (Deluge-type water systems).

Modification Request: The petitioner requests a modification of the existing standard to permit nozzles to be used without blow-off dust covers for its deluge-type water spray system. The petitioner proposes to continue its weekly inspection and functional testing of the complete deluge-type water spray system, and remove blow-off dust covers from the nozzles. The petitioner states that: (1) Currently each nozzle is provided with a blow-off dust cover. In view of the frequent inspections and functional testing of the system, the dust covers are not necessary because the nozzles can be maintained in an unclogged condition through weekly use; and (2) it is burdensome to recap the large number of covers weekly after each inspection and functional test. The petitioner asserts that the proposed alternative method will at all times guarantee no less than the same measure of protection afforded the miners employed by said standard.

Docket Number: M-2010-004-C.

Petitioner: Jim Walter Resources, P.O. Box 133, Brookwood, Alabama 35444.

Mine: No. 7 Mine, MSHA I. D. No. 01-01401, located in Tuscaloosa County, Alabama.

Regulation Affected: 30 CFR 75.507 (Power connection points).

Modification Request: The petitioner requests a modification of the existing standard to permit the use of one or more three-phase, 2,400-volt or 4,160-volt alternating current submersible pumps installed in return and bleeder entries in the No. 7 Mine. The petitioner states that: (1) The three-phase, 2, 400-volt or 4,160-volt, alternating current electric power circuit for each pump will be designed and installed to: (a) Contain either a direct or derived neutral, which will be grounded through a suitable resistor at the source transformer or power center. A grounding circuit originating at the grounded side of the grounding resistor must extend along with the power conductors and serve as the grounding conductor for the frame of each pump and all associated electric equipment that may be supplied power from each such circuit. The borehole casing will be bonded to the system grounding medium; and (b) contain a grounding resistor that limits the ground-fault current to not more than 6.5 amperes. The grounding resistor must be rated for the maximum fault current available and must be insulated from ground for a voltage equal to the phase-to-phase voltage of the system. (2) The following protections for each pump power circuit will be provided by a suitable circuit interrupting device of adequate interrupting capacity with devices to provide protection against undervoltage, grounded phase, short-circuit, and overload: (a) The undervoltage protection device will operate on a loss of voltage to prevent automatic restarting of the equipment; (b) the grounded phase protection device will be set not to exceed fifty percent (50%) of the current rating of the neutral grounding resistor; (c) the short circuit protection device will not be set to exceed the required short circuit protection for the power cable or seventy-five percent (75%) of the minimum available phase-to-phase short circuit current, whichever is less; (d) each power circuit will contain a disconnecting device located on the surface and installed to provide visual evidence that the power is disconnected; (e) each disconnecting device will include a means to visually determine the relevant pump power circuit is disconnected and be provided with a means to lock, tag-out, and ground the system; (f) each disconnecting device shall be designed to prevent entry unless the disconnect handle is in the “off” position and the circuit is grounded; and (g) each disconnecting device will be clearly identified and provided with a warning sign stating, “Danger do not enter unless the circuit is opened, locked, tagged-out, and grounded”. (3) Each three-phase, alternating current system will be provided with a low resistance grounding medium for the grounding of the lightning/surge arrestors for the high-voltage pump power circuit that is separated from the neutral grounding medium by a distance of not less than twenty-five (25) feet. (4) The electric control circuit(s) for each pump will meet the following requirements: (a) The control circuit will be equipped with a circuit that determines a high and low water level; (b) when the water level is reached, the pump will cease operation and will not start in either the manual or automatic mode; (c) when the high water level is reached, the pump will be capable of operation; (d) the high and low water levels will be determined by a differential pressure switch located at the surface; (e) the grounded-phase protective circuit for each pump will be able to be tested by injecting a test current through the grounded-phase current transformer; and (f) a remote control and monitoring system can be used with a pump system for condition monitoring and for remote startup and shutdown control of the pump. The remote control and monitoring system will not allow remote reset of the pump power system when any fault condition (e.g., grounded phase, short circuit, or overload) exists on the system. (5) Each surface pump control and power circuit will be examined as required by 30 CFR 77.502. (6) The power cable to each submersible pump motor must be suitable for this application, have a current carrying capacity not less than one-hundred twenty-five percent (125%) of the full load motor current of the submersible pump motor, and have an outer jacket suitable for a wet location. The power cable must be supported at the entrance to the borehole and throughout its length by securing it with clamps, spaced approximately twenty-five feet (25') apart, affixed to the discharge pipe casing. (7) A device will be installed to monitor ground continuity from the starter box to the well head. (8) The starter will be equipped with ground fault “look-ahead” device to prevent the motor from being energized during a fault condition. (9) Each pump installation must comply with all other applicable requirement of 30 CFR. (10) Within sixty (60) days after this petition is granted, petitioner will submit proposed revisions for their approved Part 48 training plan to the District 11 Manager. These provisions will specify task training for all qualified mine electricians who perform electric work, monthly examinations as required by 30 CFR 77.502, and refresher training regarding the alternative method outlined in the petition. The procedures of 30 CFR 48.3 for approval of proposed revisions to already approved training plans will apply. The petitioner asserts that the alternate method of achieving the result of the existing standard will at all times guarantee no less than the same measure of protection afforded the miners by the present application of the standard.

Dated: March 12, 2010.
Patricia W. Silvey,
Director, Office of Standards, Regulations and Variances.

[FR Doc. 2010-5787 Filed 3-16-10; 8:45 am]

BILLING CODE 4510-43-P